DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by March 25, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Forest Service

Title: National Woodland Owner Survey.

OMB Control Number: 0596-0078.

Summary of Collection: The main authority for this collection is the Forest and Rangeland Renewable Resources Planning Act of 1974. The Act states that the Forest Service is tasked with “assessing the Nation's renewable resources” and this “must be based on a comprehensive assessment of present and anticipated uses, demand for, and supply of renewable resources from the Nation's public and private forests.” A “comprehensive assessment” and a statement that “the majority of the Nation's forests and rangeland is under private, State, and local governmental management and the Nation's major capacity to produce goods and services is based on these nonfederally managed renewable resources, the Federal Government should be a catalyst to encourage and assist these owners in the efficient long-term use and improvement of these lands and their renewable resources consistent with the principles of sustained yield multiple use”. The USDA Forest Service interprets the above provisions to call for studies aimed at understanding land ownership patterns and the attitudes and behaviors of owners and manager. A survey of owners and managers was deemed appropriate for meeting this mandate. This was reaffirmed in the 2014 Farm Bill which included a statement directing the Forest Inventory and Analysis program, which implements the National Woodland Owner Survey, to provide an “increased understanding . . . of the over 10,000,000 family forest owners, their demographics, and the barriers to forest stewardship.”

Need and Use of the Information: Data from the National Woodland Owner Survey will be used by federal and state forestry agencies, academics, private consultants, landowners, non-governmental organizations, and other groups interested in understanding the owners and managers of forestland in the United States. This information will be used to describe ownership patterns in national reports, such as Forest Resources of the United States, 2017, and it will be included in many state-level forest resource reports. Federal and state agencies use this information to design, implement, and monitor forestry assistance programs, such as the USDA Forest Service's Forest Stewardship Program. Forestry consultants, non-governmental organizations, and the forest industry use this information to make strategic planning decisions, such as where to site new biomass processing facilities, what services to offer, or where to concentrate conservation efforts. Extension agents and other educators use the information to design educational materials and programs. University and other researchers use the data for a myriad of reasons, ranging from assessments of minority landowners to factors influencing participation rates.

Description of Respondents: Individuals or households; Business or other for-profit; State, Local or Tribal Government.

Number of Respondents: 5,630.

Frequency of Responses: Reporting: Annual.

Total Burden Hours: 4,270.

Levi S. Harrell,
Departmental Information Collection Clearance Officer.

[FR Doc. 2024-03748 Filed 2-22-24; 8:45 am]

BILLING CODE 3411-15-P